DEPARTMENT OF THE INTERIOR

Minerals Management Service

Agency Information Collection Activities: Proposed Collection; Comment Request

AGENCY: Minerals Management Service (MMS), Interior.

ACTION: Notice of extension of a currently approved information collection (OMB Control Number 1010-0006).

SUMMARY: To comply with the Paperwork Reduction Act of 1995 (PRA), we are inviting comments on an information collection request (ICR), titled “30 CFR Part 256, Leasing of Sulphur or Oil and Gas in the Outer Continental Shelf.” We are preparing an ICR, which we will submit to the Office of Management and Budget (OMB) for review and approval.

DATES: Submit written comments by December 11, 2000.

ADDRESSES: Mail or hand carry comments to the Department of the Interior; Minerals Management Service; Attention: Rules Processing Team; Mail Stop 4024; 381 Elden Street; Herndon, Virginia 20170-4817. Our practice is to make comments, including names and home addresses of respondents, available for public review during regular business hours. Individual respondents may request that we withhold their home address from the rulemaking record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the regulations requiring the collection of information at no cost.

SUPPLEMENTARY INFORMATION: Title: 30 CFR Part 256, Leasing of Sulphur or Oil and Gas in the Outer Continental Shelf.

OMB Control Number: 1010-0006.

Abstract: The Outer Continental Shelf (OCS) Lands Act, as amended, 43 U.S.C. 1331 et seq., requires the Secretary of the Interior to preserve, protect, and develop offshore oil and gas resources; to make such resources available to meet the Nation's energy needs as rapidly as possible; to balance orderly energy resource development with protection of the human, marine, and coastal environments; to ensure the public a fair and equitable return on the resources of the OCS; and to preserve and maintain free enterprise competition. The Energy Policy and Conservation Act of 1975 (EPCA) prohibits certain lease bidding arrangements (42 U.S.C. 6213 (c)).

The Independent Offices Appropriations Act of 1952 (IOAA), 31 U.S.C. 9701, authorizes Federal agencies to recover the full cost of services that provide special benefits. Under the Department of the Interior's (DOI) policy implementing the IOAA, MMS is required to charge the full cost for services that provide special benefits or privileges to an identifiable non-Federal recipient above and beyond those that accrue to the public at large. Instruments of transfer of a lease or interest are subject to cost recovery, and MMS regulations specify filing fees for these transfer applications.

The MMS uses the information required by 30 CFR part 256 to determine if applicants are qualified to hold leases in the OCS. Specifically, MMS uses the information to:

• Verify the qualifications of a bidder on an OCS lease sale. Once the required information is filed with MMS, a qualification number is assigned to the bidder so that duplicate information is not required on subsequent filings.

• Develop the semiannual List of Restricted Joint Bidders. This identifies parties ineligible to bid jointly with each other on OCS lease sales, under limitations established by the EPCA.

• Ensure the qualification of assignees. Once a lease is awarded, the transfer of a lessee's interest to another qualified party must be approved by an MMS regional director.

• Obtain information and nominations on oil and gas leasing, exploration, and development and production. Early planning and consultation ensure that all interests and concerns are communicated to us for future decisions in the leasing process.

• Document that a leasehold or geographical subdivision has been surrendered by the record title holder.

• Verify that lessees have adequate bonding coverage. Respondents must submit their bonds certification forms: Form MMS-2028, Outer Continental Shelf Mineral Lessee's and Operator's Bond and Act of Suretyship,” and Form MMS-2028A, “Outer Continental Shelf Mineral Lessee's and Operator's Supplemental Plugging & Abandonment Bond and Act of Suretyship.” The MMS uses these documents to hold the surety libel for the obligations and liability of the principal/lessee or operator.

Responses are required to obtain or retain a benefit. No questions of a “sensitive” nature are asked. The individual responses to Calls for Information are the only information collected involving the protection of confidentiality. The MMS will protect specific individual replies from disclosure as proprietary information according to section 26 of the OCS Lands Act and 30 CFR 256.10(d).

Frequency: The frequency of reporting is “on occasion.”

Estimated Number and Description of Respondents: Approximately 130 Federal OCS oil and gas or sulphur lessees, as well as the affected states and local governments.

Estimated Annual Reporting and Recordkeeping “Hour” Burden: The currently approved” hour burden for this information collection is a total of 17,856 hours. The major components of this burden and burden per response are:

• Submit qualification of bidders for joint bids and statements/reports of production (4.5 hours).

• Submit bids (1 hour).

• Submit joint lease agreements (4 hours).

• Execute forms MMS-2028 and MMS-2028A (¼ hour).

• Demonstrate ability to carry out financial obligations, request approval for other forms of security, or request reduction in supplemental bond requirements (4 hours).

• Provide plan to fund lease-specific abandonment account and related information (4 hours).

• Provide third-party guarantee, indemnity agreement, related notices, and annual report (8 hours).

• File application for assignment or transfer for approval (5 hours).

• File required documents for record purposes (½ hour)

• Request relinquishment of lease (5 hours).

Estimated Annual Reporting and Recordkeeping “Non-Hour Cost” Burden: The currently approved “non-hour cost” burden for this information collection is a total of $470,875. This cost burden is for filing fees associated with submitting requests for approval of instruments of transfer ($185 per application) or to file non-required documents for record purposes ($25 per filing).

Comments: The PRA (44 U.S.C. 3501, et seq.) provides that an agency may not conduct or sponsor, and a person is not required to respond to, a collection of information unless it displays a currently valid OMB control number. Section 3506(c)(2)(A) of the PRA requires each agency “* * * to provide notice * * * and otherwise consult with members of the public and affected agencies concerning each proposed collection of information * * *”

Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. Other than the filing fees, we have not identified any non-hour cost burdens and need to know if you have other costs associated with the collection of this information for either total capital and startup cost components or annual operation, maintenance, and purchase of service components. Your estimates should consider the costs to generate, maintain, and disclose or provide the information. You should describe the methods you use to estimate major cost factors, including system and technology acquisition, expected useful life of capital equipment, discount rate(s), and the period over which you incur costs. Capital and startup costs include, among other items, computers and software you purchase to prepare for collecting information, monitoring, and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission. In calculating the burden, we assumed that respondents perform certain requirements in the normal course of their activities. We consider these to be usual and customary and took that into account in estimating the burden.

Dated: September 28, 2000.
E.P. Danenberger,
Chief, Engineering and Operations Division.

[FR Doc. 00-25765 Filed 10-10-00; 8:45 am]

BILLING CODE 4310-MR-W